DEPARTMENT OF TRANSPORTATION

Federal Aviation Administration

Public Notice for Waiver of Aeronautical Land-Use Assurances; Minneapolis-St. Paul International Airport (MSP), Minneapolis, MN

AGENCY: Federal Aviation Administration, DOT.

ACTION: Notice of intent of waiver with respect to land.

SUMMARY: The Federal Aviation Administration (FAA) is giving notice that portions of the airport property are not needed for aeronautical use as currently identified on the Airport Layout Plan (ALP). The Metropolitan Airports Commission (MAC) proposes the release and transfer of the certain land parcels that were acquired through FAA Grants, to the Minnesota Department of Transportation (Mn/DOT) as part of a land exchange agreement with Mn/DOT. The property exchange will provide clear and responsible ownership of right-of-way parcels along the perimeter of MSP. MAC and Mn/DOT have agreed to exchange eleven (11) parcels of property. There are five (5) parcels totaling approximately 7.2 acres that MAC is requesting FAA approval to release, and there are six (6) parcels totaling approximately 14.2 acres that will be transferred from Mn/DOT to MAC. MAC will receive a net gain of approximately 7.0 acres of property from Mn/DOT as a result of these transfers. The parcels are not currently used or intended for aeronautical use and are so identified on the revised ALP.

MAC is proposing the following releases to Mn/DOT:

1. Three parcels acquired through multi-phase AIP Grants 3-27-0059-30, 3-27-0059-32, and 3-27-0059-36 that are currently used for roadway rights-of-way, comprising approximately 1.7 acres of land. They will be transferred to Mn/DOT in order to accommodate the approved planned expansion of the 66th Street interchange at Minnesota Trunk Highway No. 77 that was necessitated by the development of new Runway 17-35 and documented by the 1998 Dual-Track Final Environmental Impact Statement (FEIS).

2. One parcel, acquired through FAAP Grant 9-21-046-0316, in June 1963 comprising approximately 2.2 acres of vacant land. It will be transferred to Mn/DOT and controlled through a Memorandum of Understanding (MOU) between MAC, Mn/DOT and the City of Richfield, MN dated January 31, 2000, which sets forth the terms and conditions for coordination of planned roadway improvements and the release of remnant parcels to the City of Richfield located at 66th Street and Minnesota Trunk Highway No. 77 in response to the need for improvements as documented by the 1998 Dual-Track FEIS and a Design Study Report.

3. One parcel acquired through FAAP Grant 9-21-046-06114, in March 1963 comprising approximately 3.3 acres of land. It will be transferred to Mn/DOT and utilized by Mn/DOT and the City of Richfield to construct 77th Street under Minnesota Trunk Highway No. 77. Currently, MAC uses the parcel for the storage of construction materials.

The current and intended property uses are limited to the application of public purposes and uses unique to the needs of MAC and Mn/DOT and are not needed for aeronautic use, as shown on the ALP. Approval does not constitute a commitment by the FAA to financially assist in the disposal of the subject airport property nor a determination of eligibility for grant-in-aid funding from the FAA. The disposition of the proceeds of the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 1, 2004.

FOR FURTHER INFORMATION CONTACT: Mr. Glen Orcutt, Program Manager, Federal Aviation Administration, Airports District Office, 6020 28th Avenue South, Room 102, Minneapolis, MN 55450-2706. Telephone Number (612) 713-4354/FAX Number (612) 713-4364. Documents reflecting this FAA action may be reviewed at this same location or at the Minneapolis-St. Paul International Airport, Minneapolis, MN.

SUPPLEMENTARY INFORMATION: Following are legal descriptions for each parcel owned by the MAC and to be conveyed to Mn/DOT:

MAC Parcel 17 A

All those parts of Lots 1 through 7, inclusive, Block 2, Lots 1 through 12, inclusive, Block 9 and Lot 12, Block 16, New Ford Town, according to the recorded plat thereof, Hennepin County, Minnesota, and those parts of the rights-of-way of East 65th Street and East 64th Street, as dedicated by said plat of New Ford Town, described as follows: Beginning at the southwest corner of said Lot 7, Block 2, said southwest corner also being a corner in the easterly right-of-way line of State Trunk Highway No. 77; thence on an assumed bearing of North 00 degrees 10 minutes 23 seconds East along the westerly lines of said Blocks 2 and 9 and the northerly extensions thereof and the westerly line of said Block 16, said westerly lines and their northerly extensions also being the said easterly right-of-way line of State Trunk Highway No. 77, for 1101.12 feet; thence southerly for 37.44 feet along a non-tangential curve concave to the east, radius 2799.12 feet and central angle 00 degrees 45 minutes 59 seconds, the chord of said curve bears South 03 degrees 18 minutes 49 seconds East; thence South 03 degrees 41 minutes 49 seconds East for 670.25 feet along tangent to said curve; thence southerly for 338.65 feet along a tangential curve concave to the east, radius 2814.79 feet and central angle 06 degrees 53 minutes 36 seconds; thence South 10 degrees 35 minutes 24 seconds East for 59.48 feet to a point in the southerly line of said Lot 7, Block 2, said point also being a point on said easterly right-of-way line of State Trunk Highway No. 77; thence South 89 degrees 39 minutes 33 seconds West for 101.73 feet along said southerly line of Lot 7 and said easterly right-of-way line to the point of beginning.

MAC Parcel 17B

All those parts of Lots 10, 11, 12, 13 and 14, Block 2, New Ford Town, according to the recorded plat thereof, Hennepin County, Minnesota, described as follows: Beginning at the southwest corner of said Lot 10, said southwest corner also being a point on the easterly right-of-way line of State Trunk Highway No. 77; thence on an assumed bearing of North 00 degrees 10 minutes 23 seconds East along the westerly line of said Lot 10 and said easterly right-of-way line for 135.93 feet to the northwest corner of said Lot 10 and an angle point in said easterly right-of-way line; thence North 89 degrees 39 minutes 34 seconds East along the northerly line of said Lots 10, 11 and 12 for 123.36 feet; thence South 48 degrees 16 minutes 58 seconds East for 120.77 feet; thence South 00 degrees 00 minutes 51 seconds West for 54.44 feet to the southerly line of said Lot 14; thence South 89 degrees 30 minutes 16 seconds West along said southerly line and the southerly lines of said Lots 13, 12, 11 and 10 for 213.91 feet to the point of beginning.

MAC Parcel 10A

All that part of the Northwest Quarter of the Southwest Quarter of Section 25, Township 28, Range 24, Hennepin County, Minnesota; Commencing at the northwest corner of said Northwest Quarter of the Southwest Quarter; thence South 43 degrees 08 minutes 21 seconds East for 840.11 feet to a point on the easterly right-of-way line of State Trunk Highway No. 77 and the acutual point of beginning; thence North 00 degress 00 minutes 51 seconds West aloing said easterly line for 575.78 feet; thence easterly and southeasterly for 284.42 feet along a non-tangential curve concave to the southwest, radius 284.00 feet and central angle 57 degrees 22 minutes 51 seconds, the chord of said curve bears South 48 degrees 13 minutes 48 seconds East; thence South 19 degrees 31 minutes 52 seconds East for 11.31 feet; thence southeasterly, southerly and southwesterly for 414.26 feet along a tangential curve concave to the west, radius 280.00 feet and central angle 84 degrees 46 minutes 12 seconds; thence southwesterly for 70.36 feet along a reverse curve concave to the southeast, radius 378.00 feet and central angle 10 degrees 39 minutes 51 seconds to the point of beginning.

For the purposes of this description the westerly line of said Northwest Quarter of the Southwest Quarter is assumed to bear South 00 degrees 03 minutes 15 seconds East.

MAC Parcel 17B

All those parts of the Northwest Quarter of the Southwest Quarter of Section 25, Township 28, Range 24, Hennepin County, Minnesota and Lots 19 and 20, Block 3, “Rich Acres Hennepin County Minn.”, according to the recorded plat thereof, Hennepin County, Minnesota and the right-of-way of East 68th Street as dedicated by said plat of “Rich Acres Hennepin County Minn.”, described as follows: Commencing at the northwest corner of said Northwest Quarter of the Southwest Quarter; thence South 16 degrees 28 minutes 21 seconds East for 1323.55 feet to a point on the easterly right-of-way line of State Trunk Highway No. 77 and the actual point of beginning; thence southerly for 186.78 feet along a non-tangential curve concave to the east, radius 6536.00 feet and central angle 01 degrees 38 minutes 14 seconds, the hord of said curve bears South 03 degrees 40 minutes 58 seconds West, to a point on said easterly right-of-way line of State Trunk Highway No. 77 and the westerly line of said Block 3; thence North 00 degrees 01 minutes 12 seconds West along said easterly right-of-way line and said westerly line of Block 3 and the northerly extension thereof for 119.64 feet to an angle point in said easterly line; thence North 16 degrees 51 minutes 41 seconds East along said easterly right-of-way line for 41.54 feet to the point of beginning.

For the purposes of this description the westerly line of said Northwest Quarter is assumed to bear South 00 degrees 03 minutes 15 seconds East.

MAC Parcel 11A

All that part of the Southwest Quarter of Section 36, Township 28, Range 24, Hennepin County, Minnesota, described as follows: Commencing at the northwest corner of said Southwest Quarter; thence South 44 degrees 01 minutes 17 seconds East for 425.25 feet to a point on the easterly right-of-way line of State Trunk Highway No. 77 and the actual point of beginning; thence South 03 degrees 29 minutes 17 seconds East for 262.21 feet; thence South 00 degrees 19 minutes 00 seconds West for 288.19 feet; thence southerly for 500.82 feet along a tangential curve concave to the east, radius 1359.39 feet and central angle 21 degrees 06 minutes 31 seconds; thence South 20 degrees 47 minutes 31 seconds East for 279.81 feet; thence South 63 degrees 43 minutes 26 seconds East for 70.77 feet; thence South 17 degrees 16 minutes 01 seconds East for 125.00 feet; thence southwesterly for 168.07 feet along a non-tangential curve concave to the northwest, radius 4648.66 feet and central angle 02 degrees 04 minutes 17 seconds the chord of said curve bears South 73 degrees 20 minutes 07 seconds West; thence South 29 degrees 02 minutes 30 seconds East for 349.23 feet to said easterly right-of-way line; thence northwesterly, northerly, westerly, northerly, easterly and northerly along said easterly right-of-way line to the point of beginning.

For the purposes of this description, the westerly line of said Southwest Quarter is assumed to bear South 00 degree 00 minutes 11 seconds East.

Issued in Minneapolis, MN, on March 11, 2004.
Robert Huber,
Manager, Minneapolis Airports District Office, FAA, Great Lakes Region.

[FR Doc. 04-10125 Filed 5-28-04; 8:45 am]

BILLING CODE 4910-13-M